FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 11, 2005.

A. Federal Reserve Bank of St. Louis (Randall C. Sumner, Vice President) 411 Locust Street, St. Louis, Missouri 63166-2034:

1. Joel Porter, Memphis, Tennessee; to acquire voting shares of BankTennessee, Collierville, Tennessee.

B. Federal Reserve Bank of Kansas City (Donna J. Ward, Assistant Vice President) 925 Grand Avenue, Kansas City, Missouri 64198-0001:

1. Louis Keith Ahlemeyer and Nadine Mae Ahlemeyer, both of Sedalia, Missouri; to acquire voting shares of Investors Financial Corporation of Pettis County, Inc., Sedalia, Missouri, and thereby indirectly acquire voting shares of Community Bank of Pettis County, Sedalia, Missouri.

Board of Governors of the Federal Reserve System, December 22, 2004.
Jennifer J. Johnson,
Secretary of the Board.

[FR Doc. 04-28448 Filed 12-28-04; 8:45 am]

BILLING CODE 6210-01-S